DEPARTMENT OF LABOR

Employment and Training Administration

Workforce Investment Act of 1998 (WIA); Lower Living Standard Income Level (LLSIL)

AGENCY: Employment and Training Administration (ETA), Labor.

ACTION: Notice.

SUMMARY: Title I of WIA (Pub. L. 105-220) requires the U.S. Secretary of Labor (Secretary) to update and publish the LLSIL tables annually, for uses described in the law (including determining eligibility for youth programs). WIA defines “low income individual” to include individuals who received income during a six-month period that does not exceed the higher level of the poverty line or 70 percent of the LLSIL. This issuance provides the Secretary's annual LLSIL for 2014, and also provides a reference to the 2014 Health and Human Services “Poverty Guidelines.”

DATES: This notice is effective immediately.

For Further Information or Questions on the LLSIL: Please contact Samuel Wright, U.S. Department of Labor, Employment and Training Administration, 200 Constitution Avenue NW., Room C-4526, Washington, DC 20210; Telephone: 202-693-2870; Fax: 202-693-3015 (neither telephone or fax are toll-free numbers); Email address: wright.samuel.e@dol.gov. Individuals with hearing or speech impairments may access the telephone number above via Text Telephone (TTY/TDD) by calling the toll-free Federal Information Relay Service at 1-877-889-5627 (TTY/TDD).

For Further Information or Questions on Federal Youth Employment Programs: Please contact Jennifer Kemp, U.S. Department of Labor, Employment and Training Administration, 200 Constitution Avenue NW., Room N-4464, Washington, DC 20210; Telephone: 202-693-3377; Fax: 202-693-3110 (neither telephone or fax are toll-free numbers); Email: kemp.jennifer.n@dol.gov. Individuals with hearing or speech impairments may access the telephone number above via TTY by calling the toll-free Federal Information Relay Service at 1-877-889-5627 (TTY/TDD).

SUPPLEMENTARY INFORMATION: The purpose of WIA is to provide employment assistance through statewide and local workforce investment programs that increase the employment opportunities, retention, and earnings of participants. WIA programs are intended to increase the occupational skills of participants and the quality of the workforce, thereby reducing welfare dependency and enhancing the productivity and competitiveness of the Nation's workforce.

LLSIL is used for several purposes under WIA. WIA Section 101(25) defines the term “low income individual” for eligibility purposes, and Sections 127(b)(2)(C) and 132(b)(1)(B)(v)(IV) define “disadvantaged youth” and “disadvantaged adult” in terms of the poverty line or LLSIL for State formula allotments. The governor and State/local workforce investment boards (WIBs) use the LLSIL for determining eligibility for youth and adults for certain services. ETA encourages governors and State/local WIBs to consult the WIA regulations and the preamble to the WIA Final Rule (65 FR 49294, August 11, 2000) for more specific guidance in applying the LLSIL to program requirements. The U.S. Department of Health and Human Services (HHS) published the 2014 poverty-level guidelines in the Federal Register on January 22, 2014 (Volume 79, Number 14), pp. 3593-3594 (available at http://aspe.hhs.gov/poverty/14poverty.cfm). ETA provides a hyperlink to the 2014 LLSIL Federal Register and updated LLSIL tables on its Web site at http://www.doleta.gov/llsil/2014/.

WIA Section 101(24) defines LLSIL as “that income level (adjusted for regional, metropolitan, urban and rural differences and family size) determined annually by the Secretary [of Labor] based on the most recent lower living family budget issued by the Secretary.” The Secretary issued the most recent lower living family budget in fall 1981. The four-person urban family budget estimates, previously published by the U.S. Bureau of Labor Statistics (BLS), provided the basis for the Secretary to determine the LLSIL. BLS terminated the four-person family budget series in 1982, after publication of the fall 1981 estimates. Currently, BLS provides data which ETA uses to develop the LLSIL tables, shown in the Appendices to this Federal Register notice.

ETA published the 2013 updates to the LLSIL in the Federal Register of March 19, 2013, at Vol. 78, No. 53, pp. 16871-16875. This notice updates the LLSIL to reflect cost-of-living increases for 2014, by calculating the percentage change in the most recent 2013 Consumer Price Index for All Urban Consumers (CPI-U) for an area, and applying this calculation to each of the March 19, 2013 LLSIL figures. The updated figures for a four-person family are listed in Appendix A, Table 1 by region for both metropolitan and non-metropolitan areas. Numbers in all Appendix tables are rounded up to the nearest dollar. Since program eligibility for low-income individuals, “disadvantaged adults” and “disadvantaged youth” may be determined by family income at 70 percent of the LLSIL, pursuant to WIA Sections 101(25), 127(b)(2)(C), and 132(b)(1)(B)(v)(IV), respectively, those figures are listed as well.

I. Jurisdictions

Jurisdictions included in the various regions, based generally on the Census Regions defined by the U.S. Department of Commerce, are as follows:

A. Northeast

Connecticut

Maine

Massachusetts

New Hampshire

New Jersey

New York

Pennsylvania

Rhode Island

Vermont

Virgin Islands

B. Midwest

Illinois

Indiana

Iowa

Kansas

Michigan

Minnesota

Missouri

Nebraska

North Dakota

Ohio

South Dakota

Wisconsin

C. South

Alabama

American Samoa

Arkansas

Delaware

District of Columbia

Florida

Georgia

Northern Marianas

Oklahoma

Palau

Puerto Rico

South Carolina

Kentucky

Louisiana

Marshall Islands

Maryland

Micronesia

Mississippi

North Carolina

Tennessee

Texas

Virginia

West Virginia

D. West

Arizona

California

Colorado

Idaho

Montana

Nevada

New Mexico

Oregon

Utah

Washington

Wyoming

Additionally, separate figures have been provided for Alaska, Hawaii, and Guam as indicated in Appendix B, Table 2.

For Alaska, Hawaii, and Guam, the year 2014 figures were updated from the 2013 Regional indexes provided by BLS. Data on 23 selected Metropolitan Statistical Areas (MSAs) are also available. These are based on annual and semiannual CPI-U changes for a 12-month period ending in December 2013. The updated LLSIL figures for these MSAs and 70 percent of LLSIL are reported in Appendix C, Table 3.

Appendix D, Table 4 lists each of the various figures at 70 percent of the updated 2013 LLSIL for family sizes of one to six persons. Tables 1-3 only list the LLSIL for a family of four, but Table 4 can be used to separately determine the LLSIL for family incomes between one and six persons. For families larger than six persons, add the income level difference between the six-person and the five-person family income levels for each additional person in the family. Where the poverty level for a particular family size is greater than the corresponding 70 percent of the LLSIL figure, the figure is italicized.

Appendix E, Table 5, shows 100 percent of the LLSIL for family sizes of one to six, and is used to determine self-sufficiency as noted at 20 CFR 663.230 of WIA regulation, and Section 134(d)(3)(A)(ii) of WIA. Modified Microsoft Excel tables for both Appendix E, Table 5 (with the area names) and Appendix D, Table 4, with the area names, and the shaded areas where the poverty level is greater than the corresponding 70 percent of the LLSIL figure, is available on the ETA LLSIL Web site at http://www.doleta.gov/llsil/2014/.

II. Use of These Data

Governors should designate the appropriate LLSILs for use within the State from Appendices A, B, or C, containing Tables 1 through 3. Appendices D and E, contain Tables 4 and 5, which adjust a family of four figure for larger and smaller families, may be used with any LLSIL designated area. The governor's designation may be provided by disseminating information on MSAs and metropolitan and non-metropolitan areas within the State or it may involve further calculations. For example, the State of New Jersey has at least four LLSIL figures (Northeast metropolitan area, Northeast non-metropolitan area, and the New York and Philadelphia MSAs). An area may have more than one LLSIL area designation, if a workforce investment area has more than one LLSIL area designation, the governor may determine which is to be used.

Under 20 CFR 661.110, a State's policies and measures for the workforce investment system shall be accepted by the Secretary to the extent that they are consistent with WIA and WIA regulations.

III. Disclaimer on Statistical Uses

Publication of the LLSIL is solely for WIA statutory and regulatory requirements. BLS has terminated the four-person urban family budget estimates series and has not revised the lower living family budget since 1981, and has no plans to do so. The CPI-U adjustments used to update LLSIL for this publication are not precisely comparable, (most notably because certain tax items were included in the 1981 LLSIL, but are not in the CPI-U). Thus, figures in this notice should not be used for any statistical purposes, and are valid only for those purposes under WIA as defined in the law and regulations.

Appendix A

Table 1—Lower Living Standard Income Level ¹ (for a Family of Four Persons) by Region
Region ² | 2014 Adjusted LLSIL | 70 percent LLSIL
Northeast:
Metro | $41,787 | $29,251
Non-Metro ³ | 41,374 | 28,962
Midwest:
Metro | 36,720 | 25,704
Non-Metro | 35,711 | 24,998
South:
Metro | 38,293 | 26,805
Non-Metro | 35,077 | 24,554
West:
Metro | 42,378 | 29,665
Non-Metro ⁴ | 41,849 | 29,294
¹ For ease of use, these figures are rounded to the next highest dollar.
² Metropolitan area measures were calculated from the weighted average CPI-U's for city size classes A and B/C. Non-metropolitan area measures were calculated from the CPI-U's for city size class D.
³ Non-metropolitan area percent changes for the Northeast region are no longer available. The Non-metropolitan percent change was calculated using the U.S. average CPI-U for city size class D.
⁴ Non-metropolitan area percent changes for the West region are based on unpublished BLS data.

Appendix B

Table 2—Lower Living Standard Income Level ¹ (for a Family of Four Persons), for Alaska, Hawaii and Guam
Region ² | 2014 Adjusted LLSIL | 70 Percent LLSIL
Alaska:
Metro | $47,851 | $33,496
Non-Metro | 50,100 | 35,070
Hawaii, Guam:
Metro | 51,552 | 36,086
Non-Metro | 53,485 | 37,440
¹ For ease of use, these figures are rounded to the next highest dollar.
² Non-Metropolitan percent changes for Alaska, Hawaii and Guam were calculated from the CPI-U's for all urban consumers for city size class D in the Western Region. Generally the non-metro areas LLSIL is lower than the LLSIL in metro areas. This year the non-metro area LLSIL incomes were larger because the change in CPI-U was smaller in the metro areas compared to the change in CPI-U in the non-metro areas of Alaska, Hawaii and Guam.

Appendix C

Table 3—Lower Living Standard Income Level ¹ (for a Family of Four Persons), for 23 Selected MSAs
Metropolitan statistical areas (MSAs) | 2014 Adjusted LLSIL | 70 Percent LLSIL
Anchorage, AK | $49,048 | $34,333
Atlanta, GA | 33,801 | 23,660
Boston-Brockton-Nashua, MA/NH/ME/CT | 44,629 | 31,241
Chicago-Gary-Kenosha, IL/IN/WI | 37,829 | 26,481
Cincinnati-Hamilton, OH/KY/IN | 35,824 | 25,077
Cleveland-Akron, OH | 37,425 | 26,198
Dallas-Ft. Worth, TX | 34,005 | 23,804
Denver-Boulder-Greeley, CO | 37,771 | 26,440
Detroit-Ann Arbor-Flint, MI | 35,239 | 24,668
Honolulu, HI | 52,479 | 36,735
Houston-Galveston-Brazoria, TX | 33,265 | 23,285
Kansas City, MO/KS | 34,638 | 24,247
Los Angeles-Riverside-Orange County, CA | 42,151 | 29,506
Milwaukee-Racine, WI | 36,055 | 25,238
Minneapolis-St. Paul, MN/WI | 36,142 | 25,300
New York-Northern NJ-Long Island, NY/NJ/CT/PA | 44,387 | 31,071
Philadelphia-Wilmington-Atlantic City, PA/NJ/DE/MD | 40,170 | 28,119
Pittsburgh, PA | 43,968 | 30,778
St. Louis, MO/IL | 34,011 | 23,808
San Diego, CA | 45,635 | 31,945
San Francisco-Oakland-San Jose, CA | 43,714 | 30,600
Seattle-Tacoma-Bremerton, WA | 44,351 | 31,046
Washington-Baltimore, DC/MD/VA/WV ² | 45,279 | 31,695
¹ For ease of use, these figures are rounded to the next highest dollar.
² Baltimore and Washington are calculated as a single metropolitan statistical area.

Appendix D

Table 4: 70 Percent of Updated 2014 Lower Living Standard Income Level (LLSIL), by Family Size

To use the 70 percent LLSIL value, where it is stipulated for the WIA programs, begin by locating the region or metropolitan area where the program applicant resides. These are listed in Tables 1, 2 and 3. After locating the appropriate region or metropolitan statistical area, find the 70 percent LLSIL amount for that location. The 70 percent LLSIL figures are listed in the last column to the right on each of the three tables. These figures apply to a family of four. Larger and smaller family eligibility is based on a percentage of the family of four. To determine eligibility for other size families consult Table 4 and the instructions below.

To use Table 4, locate the 70 percent LLSIL value that applies to the individual's region or metropolitan area from Tables 1, 2 or 3. Find the same number in the “family of four” column of Table 4. Move left or right across that row to the size that corresponds to the individual's family unit. That figure is the maximum household income the individual is permitted in order to qualify as economically disadvantaged under the WIA.

Where the HHS poverty level for a particular family size is greater than the corresponding LLSIL figure, the LLSIL figure is italicized. Individuals from these family sizes may consult the 2014 HHS poverty guidelines found on the Health and Human Services Web site at http://aspe.hhs.gov/poverty/14poverty.cfm to find the higher eligibility standard. Individuals from Alaska and Hawaii should consult the HHS guidelines for the generally higher poverty levels that apply in their States.

Table 4—VFR Ceiling and Flight Visibility Requirements
Family of one | Family of two | Family of three | Family of four | Family of five | Family of six
$8,390 | $13,745 | $18,865 | $23,285 | $27,481 | $32,138
8,519 | 13,962 | 19,172 | 23,660 | 27,923 | 32,653
8,574 | 14,051 | 19,286 | 23,804 | 28,095 | 32,853
8,577 | 14,052 | 19,288 | 23,808 | 28,097 | 32,856
8,729 | 14,308 | 19,646 | 24,247 | 28,614 | 33,465
8,846 | 14,492 | 19,890 | 24,554 | 28,976 | 33,886
8,883 | 14,554 | 19,984 | 24,668 | 29,109 | 34,040
9,006 | 14,752 | 20,252 | 24,998 | 29,505 | 34,504
9,030 | 14,801 | 20,318 | 25,077 | 29,595 | 34,609
9,086 | 14,893 | 20,446 | 25,238 | 29,785 | 34,832
9,111 | 14,931 | 20,498 | 25,300 | 29,860 | 34,919
9,254 | 15,170 | 20,821 | 25,704 | 30,332 | 35,479
9,433 | 15,464 | 21,223 | 26,198 | 30,918 | 36,154
9,523 | 15,605 | 21,422 | 26,440 | 31,201 | 36,491
9,533 | 15,630 | 21,449 | 26,481 | 31,252 | 36,551
9,654 | 15,819 | 21,712 | 26,805 | 31,637 | 37,001
10,129 | 16,594 | 22,780 | 28,119 | 33,187 | 38,807
10,428 | 17,094 | 23,466 | 28,962 | 34,181 | 39,967
10,534 | 17,265 | 23,695 | 29,251 | 34,522 | 40,369
10,548 | 17,286 | 23,733 | 29,294 | 34,573 | 40,435
10,623 | 17,408 | 23,901 | 29,506 | 34,818 | 40,724
10,680 | 17,502 | 24,030 | 29,665 | 35,005 | 40,943
11,022 | 18,060 | 24,787 | 30,600 | 36,111 | 42,234
11,086 | 18,166 | 24,936 | 30,778 | 36,324 | 42,478
11,184 | 18,319 | 25,151 | 31,046 | 36,638 | 42,846
11,187 | 18,336 | 25,168 | 31,071 | 36,664 | 42,885
11,249 | 18,435 | 25,312 | 31,241 | 36,869 | 43,114
11,415 | 18,707 | 25,677 | 31,695 | 37,407 | 43,748
11,506 | 18,849 | 25,880 | 31,945 | 37,699 | 44,090
12,064 | 19,764 | 27,137 | 33,496 | 39,529 | 46,232
12,366 | 20,264 | 27,814 | 34,333 | 40,520 | 47,381
12,631 | 20,692 | 28,410 | 35,070 | 41,385 | 48,396
12,998 | 21,293 | 29,236 | 36,086 | 42,585 | 49,806
13,230 | 21,675 | 29,756 | 36,735 | 43,349 | 50,702
13,483 | 22,095 | 30,329 | 37,440 | 44,181 | 51,669

Appendix E

Table 5: Updated 2014 LLSIL (100 percent), by Family Size

To use the LLSIL to determine the minimum level for establishing self-sufficiency criteria at the State or local level, begin by locating the metropolitan area or region from Table 1, 2 or 3 and then find the 2014 adjusted LLSIL amount for that location. These figures apply to a family of four. Locate the corresponding number in the family of four in the column below. Move left or right across that row to the individual's family unit. That figure is the minimum figure that States must set for determining whether employment leads to self-sufficiency under WIA programs.

Family of one | Family of two | Family of three | Family of four | Family of five | Family of six
$11,985 | $19,635 | $26,949 | $33,265 | $39,258 | $45,911
12,170 | 19,945 | 27,389 | 33,801 | 39,890 | 46,647
12,249 | 20,073 | 27,552 | 34,005 | 40,136 | 46,933
12,253 | 20,074 | 27,555 | 34,011 | 40,139 | 46,937
12,470 | 20,440 | 28,065 | 34,638 | 40,878 | 47,807
12,637 | 20,703 | 28,415 | 35,077 | 41,394 | 48,409
12,691 | 20,792 | 28,549 | 35,239 | 41,585 | 48,629
12,866 | 21,074 | 28,931 | 35,711 | 42,150 | 49,291
12,900 | 21,144 | 29,026 | 35,824 | 42,278 | 49,442
12,980 | 21,275 | 29,208 | 36,055 | 42,550 | 49,760
13,016 | 21,329 | 29,283 | 36,142 | 42,657 | 49,885
13,221 | 21,671 | 29,745 | 36,720 | 43,331 | 50,684
13,476 | 22,091 | 30,318 | 37,425 | 44,169 | 51,648
13,604 | 22,292 | 30,603 | 37,771 | 44,572 | 52,130
13,619 | 22,328 | 30,641 | 37,829 | 44,646 | 52,215
13,792 | 22,598 | 31,017 | 38,293 | 45,196 | 52,858
14,469 | 23,706 | 32,542 | 40,170 | 47,411 | 55,439
14,898 | 24,420 | 33,523 | 41,374 | 48,830 | 57,096
15,049 | 24,664 | 33,850 | 41,787 | 49,317 | 57,670
15,068 | 24,694 | 33,905 | 41,849 | 49,390 | 57,764
15,176 | 24,869 | 34,144 | 42,151 | 49,740 | 58,177
15,258 | 25,003 | 34,329 | 42,378 | 50,008 | 58,490
15,745 | 25,800 | 35,410 | 43,714 | 51,588 | 60,335
15,836 | 25,951 | 35,622 | 43,968 | 51,891 | 60,683
15,976 | 26,170 | 35,930 | 44,351 | 52,340 | 61,208
15,982 | 26,195 | 35,955 | 44,387 | 52,377 | 61,265
16,070 | 26,336 | 36,160 | 44,629 | 52,670 | 61,591
16,307 | 26,724 | 36,682 | 45,279 | 53,439 | 62,497
16,438 | 26,927 | 36,971 | 45,635 | 53,855 | 62,986
17,235 | 28,235 | 38,767 | 47,851 | 56,470 | 66,046
17,666 | 28,949 | 39,734 | 49,048 | 57,886 | 67,688
18,044 | 29,560 | 40,585 | 50,100 | 59,121 | 69,138
18,569 | 30,419 | 41,765 | 51,552 | 60,836 | 71,152
18,900 | 30,965 | 42,508 | 52,479 | 61,928 | 72,431
19,261 | 31,564 | 43,327 | 53,485 | 63,116 | 73,813

Eric Seleznow,
Acting Assistant Secretary for Employment and Training Administration.

[FR Doc. 2014-06748 Filed 3-26-14; 8:45 am]

BILLING CODE 4510-FT-P